DEPARTMENT OF THE INTERIOR

Fish and Wildlife Service

Notice of Availability of the Approved Recovery Plan for the Illinois Cave Amphipod (Gammarus acherondytes)

AGENCY: Fish and Wildlife Service, Interior.

ACTION: Notice of document availability.

SUMMARY: We, the U.S. Fish and Wildlife Service (Service) announce the availability of the approved recovery plan for the Illinois cave amphipod (Gammarus acherondytes.) The endangered Illinois cave amphipod is known only to occur in Monroe and St. Clair Counties in southwestern Illinois. It is a groundwater dwelling invertebrate found in gravel or cobble sections of cave streams. The quality and condition of groundwater in the amphipod's habitats are tied to land use practices within cave recharge areas. The plan proposes to develop partnerships with Federal and state agencies, organizations, and private landowners that will provide mechanisms for protecting Illinois cave amphipod populations through voluntary and incentive-driven stewardship efforts.

ADDRESSES: U.S. Fish and Wildlife Service's approved recovery plans are available from:

1. Fish and Wildlife Reference Service, 5430 Grosvenor Lane, Suite 110, Bethesda, Maryland 20814 (the fee for the plan varies depending on the number of pages of the plan).

2. Field Supervisor, U.S. Fish and Wildlife Service, Rock Island Ecological Services Field Office, 4469-48th Avenue Court, Rock Island, Illinois 61201

3. The World Wide Web at: http://endangered.fws.gov/RECOVERY/RECPLANS/Index.htm

FOR FURTHER INFORMATION CONTACT: Ms. Jody Gustitus Millar (see ADDRESSES section No. 2 above) or telephone at (309) 793-5800. The Fish and Wildlife Reference Service may be reached at (301) 492-6403 or (800) 582-3421. TTY users may contact Ms. Millar and the Fish and Wildlife Reference Service through the Federal Relay Service at (800) 877-8339.

SUPPLEMENTARY INFORMATION:

Background

Recovery of endangered or threatened animals or plants is a primary goal of the Service's endangered species program. A species is considered recovered when the species' ecosystem is restored and/or threats to the species are removed so that self-sustaining and self-regulating populations of the species can be supported as persistent members of native biotic communities. Recovery plans describe actions considered necessary for the conservation of the species, establish criteria for reclassification to threatened status or delisting listed species, and estimate time and cost for implementing the measures needed for recovery.

The Endangered Species Act of 1973 (Act), as amended (16 U.S.C. 1531 et seq.) requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan. We will forward substantive comments regarding recovery plan implementation to appropriate Federal Agencies and other entities so that they can take these comments into account during the course of implementing recovery actions.

The Illinois cave amphipod was listed as an endangered species under the Act on September 3, 1998 (63 FR 46900). It is a groundwater dwelling invertebrate found in gravel or cobble sections of cave streams. The principle threats to the existence of the species are degradation of karst terrain habitat through groundwater contamination (resulting from urbanization, agricultural activities, and human and animal waste from residential septic systems and livestock feedlots), inadequate protection of water quality in a sensitive geological formation (such as karst) through current state and local regulations, and natural events (i.e., a heavy spring snowmelt or rainstorm) that could cause a flushing of all systems at one time.

Historically, the Illinois cave amphipod was known to occur in six cave systems in Monroe and St. Clair Counties, Illinois. Its presence has not been confirmed in Madonnaville Cave, Monroe County and it appears to be extirpated from Stemler Cave, St. Clair County. Additional populations have been found within the known range of the species in eight additional groundwater systems in Monroe County.

The quality and condition of groundwater in the amphipod's habitats are tied to land use practices within cave recharge areas. The plan proposes to develop partnerships with Federal and state agencies, organizations, and private landowners that will provide mechanisms for protecting Illinois cave amphipod populations through voluntary and incentive-driven stewardship efforts.

The objective of this plan is to provide a framework for the recovery of the Illinois cave amphipod so that protection by the Act is no longer necessary. As recovery criteria are met, the status of the species will be reviewed and it will be considered for removal from the List of Endangered and Threatened Wildlife and Plants (50 CFR part 17). The Illinois cave amphipod will be considered for reclassification to threatened when five viable, stable populations in five separate groundwater basins with distribution in two of three sub-regions remain extant, and when there is a significant increase in the use of best management practices in the groundwater recharge areas in each of the five groundwater basins. The subregions are Columbia, Waterloo, and Renault Sub-regions of the Illinois Salem Plateau. The cave amphipod may be considered for delisting when five viable, stable populations in five separate groundwater basins with distribution in two of three sub-regions remain extant and are supported by persistent use of best management practices substantially protecting the groundwater recharge areas of the five groundwater basins. The subregions are Columbia, Waterloo, and Renault Sub-regions of the Illinois Salem Plateau.

Authority: The authority for this action is section 4(f) of the Endangered Species Act, 16 U.S.C. 1533(f).

Dated: September 19, 2002.
Lynn M. Lewis,
Acting Assistant Regional Director, Ecological Services, Region 3, Fort Snelling, Minnesota.

[FR Doc. 02-25954 Filed 10-10-02; 8:45 am]

BILLING CODE 4310-55-P